DEPARTMENT OF DEFENSE

Department of the Army, Corps of Engineers

Intent To Prepare a Draft Feasibility Study and Environmental Impact Statement (EIS) for Navigational Improvements to Manatee Harbor in Manatee County, FL

AGENCY: Department of the Army, U.S. Army Corps of Engineers, DOD.

ACTION: Notice of intent.

SUMMARY: The purpose of the feasibility study is to improve navigation in Manatee Harbor.

ADDRESSES: U.S. Army Corps of Engineers, Planning Division, Environmental Branch, P.O. Box 4970, Jacksonville, FL 32232-0019.

FOR FURTHER INFORMATION CONTACT: Dr. Aubree Hershorin at (904) 232-2136 or email at Aubree.G.Hershorin@usace.army.mil.

SUPPLEMENTARY INFORMATION:

1. Description of the Proposed Action. Proposed navigational improvements to Manatee Harbor include deepening the harbor up to minus 43 feet and widening the harbor.

2. Reasonable Alternatives. Various increments of widening and deepening, as well as other alternatives will be evaluated. The dredged material is expected to be suitable for placement in the Ocean Dredged Material Disposal Site (ODMDS) located approximately 30 miles from the mouth of Tampa Bay. Some material may be suitable for placement in dredged holes and for other purposes, and the study may evaluate the expansion of existing dredged material management areas. Other alternatives as identified during the scoping and plan formulation process will be considered.

3. Scoping Process:

a. Public and Agency Involvement. A scoping letter is being sent to agencies, commercial interests, and the public.

b. Issues to be Analyzed in Depth in the DEIS. Important issues expected include impacts to protected species, seagrass, hardgrounds, socio-economic factors, and any other factors that might be determined during the scoping and plan formulation process.

c. Possible Assignments for Input into the EIS among Lead and Potential Cooperating Agencies.

—U.S. Fish and Wildlife Service: Input concerning listed species, critical habitat, and other fish and wildlife resources.

—National Marine Fisheries Service: Input concerning listed species, critical habitat, and essential fish habitat.

—U.S. Environmental Protection Agency: Input concerning disposal in the Tampa ODMDS.

—The U.S. Army Corps of Engineers is the Lead agency and, together with the non-federal sponsor (Port Manatee), will assume responsibility for all other aspects of the EIS.

d. Other Environmental Review and Consultation Requirements. The proposed action is subject to the requirements of the Endangered Species Act, Marine Mammal Protection Act, Essential Fish Habitat requirements, National Historic Preservation Act, numerous other laws and executive orders, and any other requirements that might be identified during the scoping and plan formulation process.

4. Scoping Meeting. A public scoping meeting will be held on January 20, 2016, from 3:30 to 6:30 p.m. at the Port Manatee Intermodal Center, 1905 Intermodal Circle, Palmetto, FL 34221.

5. Date the DEIS Will Be Made Available to the Public. Dependent on the issues, alternatives, investigations, and other requirements identified during the scoping and plan formulation process; the Draft EIS should be available by November 2017.

Dated: December 10, 2015.
Eric P. Summa,
Chief, Planning Division.

[FR Doc. 2015-31807 Filed 12-17-15; 8:45 am]

BILLING CODE 3720-58-P